DEPARTMENT OF ENERGY

Federal Energy Regulatory Commission

[Project No. 2744-039]

North Eastern Wisconsin Hydro Inc. (N.E.W. Hydro); Notice of Intent To File License Application, Filing of Pre-Application Document, and Approving Use of the Traditional Licensing Process

March 18, 2010.

a. Type of Filing: Notice of Intent To File License Application and Request To Use the Traditional Licensing Process.

b. Project No.: 2744-039.

c. Date Filed: February 1, 2010.

d. Submitted by: North Eastern Wisconsin Hydro, Inc. (N.E.W. Hydro)

e. Name of Project: Menominee/Park Mill Hydroelectric Project.

f. Location: The project is located Menominee River in Menominee County, Michigan and Marinette County, Wisconsin. No Federal lands are occupied by the project works or located within the project boundary.

g. Filed Pursuant to: 18 CFR 5.3 of the Commission's regulations.

h. Applicant Contact: Scott Klabunde, North American Hydro, 116 N. State Street, P.O. Box 167, Neshkoro, WI 54960; (920) 293-4628.

i. FERC Contact: Mark Ivy, (202) 502-6156 or by e-mail at mark.ivy@ferc.gov.

j. N.E.W. Hydro filed its request to use the Traditional Licensing Process on February 1, 2010. N.E.W. Hydro issued a public notice of its request on February 3, 2010. In a letter dated March 8, 2010, the Director of the Division of Hydropower Licensing approved N.E.W. Hydro's request to use the Traditional Licensing Process.

k. With this notice, we are initiating informal consultation with: (a) The U.S. Fish and Wildlife Service under section 7 of the Endangered Species Act and the joint agency regulations thereunder at 50 CFR, Part 402; and (b) the Michigan State Historic Preservation Officer, as required by section 106, National Historic Preservation Act, and the implementing regulations of the Advisory Council on Historic Preservation at 36 CFR 800.2.

l. With this notice, we are designating N.E.W. Hydro as the Commission's non-Federal representative for carrying out informal consultation, pursuant to section 7 of the Endangered Species Act, section 305 of the Magnuson-Stevens Fishery Conservation and Management Act, and section 106 of the National Historic Preservation Act.

m. N.E.W. Hydro filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll-free at (866) 208-3676, or for TTY, (202) 502-8659. A copy is also available for inspection and reproduction at the address in paragraph h.

o. The licensee states its unequivocal intent to submit an application for a new license for Project No. 2744-039. Pursuant to 18 CFR 16.8, 16.9, and 16.10 each application for a new license and any competing license applications must be filed with the Commission at least 24 months prior to the expiration of the existing license. All applications for license for this project must be filed by February 28, 2013.

p. Register online at http://www.ferc.gov/docs-filing/esubscription.asp to be notified via e-mail of new filings and issuances related to this or other pending projects. For assistance, contact FERC Online Support.

Kimberly D. Bose,
Secretary.

[FR Doc. 2010-6569 Filed 3-24-10; 8:45 am]

BILLING CODE 6717-01-P